DEPARTMENT OF COMMERCE

International Trade Administration

Notice of Scope Ruling Applications Filed in Antidumping and Countervailing Duty Proceedings

AGENCY: Enforcement and Compliance, International Trade Administration, Department of Commerce.

SUMMARY: The U.S. Department of Commerce (Commerce) received scope ruling applications, requesting that scope inquiries be conducted to determine whether identified products are covered by the scope of antidumping duty (AD) and/or countervailing duty (CVD) orders and that Commerce issue scope rulings pursuant to those inquiries. In accordance with Commerce's regulations, we are notifying the public of the filing of the scope ruling applications listed below in the month of January 2025.

DATES: Applicable March 11, 2025.

FOR FURTHER INFORMATION CONTACT: Terri Monroe, AD/CVD Operations, Customs Liaison Unit, Enforcement and Compliance, International Trade Administration, U.S. Department of Commerce, 1401 Constitution Avenue NW, Washington, DC 20230, telephone: (202) 482-1384.

Notice of Scope Ruling Applications

In accordance with 19 CFR 351.225(d)(3), we are notifying the public of the following scope ruling applications related to AD and CVD orders and findings filed in or around the month of January 2025. This notification includes, for each scope application: (1) identification of the AD and/or CVD orders at issue (19 CFR 351.225(c)(1)); (2) concise public descriptions of the products at issue, including the physical characteristics (including chemical, dimensional and technical characteristics) of the products (19 CFR 351.225(c)(2)(ii)); (3) the countries where the products are produced and the countries from where the products are exported (19 CFR 351.225(c)(2)(i)(B)); (4) the full names of the applicants; and (5) the dates that the scope applications were filed with Commerce and the name of the ACCESS scope segment where the scope applications can be found.¹ This notice does not include applications which have been rejected and not properly resubmitted. The scope ruling applications listed below are available on Commerce's online e-filing and document management system, Antidumping and Countervailing Duty Electronic Service System (ACCESS), at https://access.trade.gov.

¹ See Regulations to Improve Administration and Enforcement of Antidumping and Countervailing Duty Laws, 86 FR 52300, 52316 (September 20, 2021) (Final Rule) (“It is our expectation that the Federal Register list will include, where appropriate, for each scope application the following data: (1) identification of the AD and/or CVD orders at issue; (2) a concise public summary of the product's description, including the physical characteristics (including chemical, dimensional and technical characteristics) of the product; (3) the country(ies) where the product is produced and the country from where the product is exported; (4) the full name of the applicant; and (5) the date that the scope application was filed with Commerce.”)

Scope Ruling Applications

Large Diameter Welded Pipe from India (A-533-881/C-533-882); Carbon steel alloy and non-alloy submerged arc welded pipes with an outer diameter exceeding 16 inches and meeting specifications for ASTM A671, ASTM A672, and ASTM A691; ² produced in and exported from India; submitted by Ratnamani Metals & Tubes, Ltd. (Ratnamani); January 21, 2025; ACCESS scope segment “Ratnamani.”

² The products are carbon steel alloy and non-alloy submerged arc welded pipes with an outer diameter exceeding 16″ and meeting the ASTM specifications for ASTM A671, ASTM A672 (Grades 60, 65, and 70), or ASTM A691 (Grades 1.25 Cr, 2.25 CR, 5 CR, and 9 CR). The external diameter of the product can vary from 16″ to 168″, with a wall thickness ranging from ⅜″ to 2″ and length ranging from 10′ to 40′.

Metal Lockers and Parts Thereof from the People's Republic of China (China) (A-570-133/C-570-134); Certain gun safes; ³ produced in and exported from China; submitted by Bass Pro LLC d/b/a Bass Pro Shops (BPS); January 21, 2025; ACCESS scope segment “BPS Gun Safes.”

³ The products are three styles of heavy-duty, fire-resistant gun safes, which are identified by their stock keeping unit (SKU) numbers: 2880553, 2904454, and 2761927. Each style: (1) fully contains firearms for secure storage, (2) includes a combination lock with at least 10,000 possible combinations, (3) has five or more one-inch steel locking bolts, (4) has 14-gauge exterior steel walls lined with 15.9mm fire-retardant gypsum board, (5) has a 14-gauge steel door that is lined with 15.9mm fire-retardant gypsum board and fitted with Palusol expanding heat seal on the door frame, which is activated at 100 degrees Celsius (212 degrees Fahrenheit), (6) has active and inactive locking bolts designed to protect against door removal, and (7) is imported in the fully assembled condition.

Aluminum Extrusions from China (A-570-967/C-570-968); screw covers; ⁴ produced in and exported from China; submitted by HTM MBS LLC (MBS); January 28, 2025; ACCESS scope segment “MBS Screw Covers.”

⁴ The products are screw covers. A screw cover consists of an internally threaded aluminum disk and a removable externally and internally threaded ring insert in the center which, together, hide the exposed head of a screw. In the center of one end of the disk, there is an internally threaded hole to accommodate the insert. There is a threaded hole in the center of the insert to accommodate the screw. Screw covers are sold in sets of four and each cover comes with an insert for mounting. The aluminum disk and the insert are made from extruded aluminum and extruded brass, respectively. Screw Covers are available in the following three types: traditional, tamper proof, and tapcon (for use with concrete). Tamper proof screw covers have a set screw on the side that tightens into the insert with an Allen wrench to prevent easy removal. Tapcon screw covers have a specially designed ring to accommodate tapcon (concrete) screws. MBS screw covers range in diameter from ½ to 1″. All screw covers are anodized. Screw covers are wholly ornamental, providing a decorative cover for exposed screw heads used for mounting pictures, art, or signs, i.e., media, on a wall or other structure. The screw covers do not in any way support or improve the mounting process of the media. Screw covers do not function as fasteners. Their only function is to add to the decorative effect to the media. The ornamental nature of the screw covers is emphasized in the variety of shapes, sizes, and colors. This variety allows the purchaser to select the specific decorative effect that he or she is looking for and demonstrates that the fundamental purpose of the screw covers is ornamentation.

Ceramic Tile from China (A-570-108/C-570-109); Roofing Tiles; ⁵ produced in and exported from China; submitted by WJC LLC (WJC); January 30, 2025; ACCESS scope segment “WJC Roofing Tiles.”

⁵ The products are several types of roofing tiles, including traditional glazed roof tiles, unglazed grey roof tiles, S shape tiles, fish scale tiles, and set accessories. WJC's Roofing Tiles specifically include: “Main roof tiles” that measure 305mm by 305mm that protect the roof of buildings from the elements; “Eaves tiles” that are semi-circular with decorative artwork that measure 305mm by 305mm; Two types of “Ridge tiles” that measure 280mm by 170mm and 275mm by 170mm that protect the roof ridges and are decorative; and “Roof top” tiles that are cylindrical and measure 600mm in height, which are designed to be roofing décor.

Notification to Interested Parties

This list of scope ruling applications is not an identification of scope inquiries that have been initiated. In accordance with 19 CFR 351.225(d)(1), if Commerce has not rejected a scope ruling application nor initiated the scope inquiry within 30 days after the filing of the application, the application will be deemed accepted and a scope inquiry will be deemed initiated the following day—day 31.⁶ Commerce's practice generally dictates that where a deadline falls on a weekend, Federal holiday, or other non-business day, the appropriate deadline is the next business day.⁷ Accordingly, if the 30th day after the filing of the application falls on a non-business day, the next business day will be considered the “updated” 30th day, and if the application is not rejected or a scope inquiry initiated by or on that particular business day, the application will be deemed accepted and a scope inquiry will be deemed initiated on the next business day which follows the “updated” 30th day.⁸

⁶ In accordance with 19 CFR 351.225(d)(2), within 30 days after the filing of a scope ruling application, if Commerce determines that it intends to address the scope issue raised in the application in another segment of the proceeding (such as a circumvention inquiry under 19 CFR 351.226 or a covered merchandise inquiry under 19 CFR 351.227), it will notify the applicant that it will not initiate a scope inquiry, but will instead determine if the product is covered by the scope at issue in that alternative segment.

⁷ See Notice of Clarification: Application of “Next Business Day” Rule for Administrative Determination Deadlines Pursuant to the Tariff Act of 1930, As Amended, 70 FR 24533 (May 10, 2005).

⁸ This structure maintains the intent of the applicable regulation, 19 CFR 351.225(d)(1), to allow day 30 and day 31 to be separate business days.

In accordance with 19 CFR 351.225(m)(2), if there are companion AD and CVD orders covering the same merchandise from the same country of origin, the scope inquiry will be conducted on the record of the AD proceeding. Further, please note that pursuant to 19 CFR 351.225(m)(1), Commerce may either apply a scope ruling to all products from the same country with the same relevant physical characteristics, (including chemical, dimensional, and technical characteristics) as the product at issue, on a country-wide basis, regardless of the producer, exporter, or importer of those products, or on a company-specific basis.

For further information on procedures for filing information with Commerce through ACCESS and participating in scope inquiries, please refer to the Filing Instructions section of the Scope Ruling Application Guide, at https://access.trade.gov/help/Scope_Ruling_Guidance.pdf. Interested parties, apart from the scope ruling applicant, who wish to participate in a scope inquiry and be added to the public service list for that segment of the proceeding must file an entry of appearance in accordance with 19 CFR 351.103(d)(1) and 19 CFR 351.225(n)(4). Interested parties are advised to refer to the case segment in ACCESS as well as 19 CFR 351.225(f) for further information on the scope inquiry procedures, including the timelines for the submission of comments.

Please note that this notice of scope ruling applications filed in AD and CVD proceedings may be published before any potential initiation, or after the initiation, of a given scope inquiry based on a scope ruling application identified in this notice. Therefore, please refer to the case segment on ACCESS to determine whether a scope ruling application has been accepted or rejected and whether a scope inquiry has been initiated.

Interested parties who wish to be served scope ruling applications for a particular AD or CVD order may file a request to be included on the annual inquiry service list during the anniversary month of the publication of the AD or CVD order in accordance with 19 CFR 351.225(n) and Commerce's procedures.⁹

⁹ See Scope Ruling Application; Annual Inquiry Service List; and Informational Sessions, 86 FR 53205 (September 27, 2021).

Interested parties are invited to comment on the completeness of this monthly list of scope ruling applications received by Commerce. Any comments should be submitted to Scot Fullerton, Acting Deputy Assistant Secretary for AD/CVD Operations, Enforcement and Compliance, International Trade Administration, via email to CommerceCLU@trade.gov.

This notice of scope ruling applications filed in AD and CVD proceedings is published in accordance with 19 CFR 351.225(d)(3).

Dated: March 5, 2025.
Scot Fullerton,
Acting Deputy Assistant Secretary for Antidumping and Countervailing Duty Operations.

[FR Doc. 2025-03837 Filed 3-10-25; 8:45 am]

BILLING CODE 3510-DS-P